DEPARTMENT OF COMMERCE

National Oceanic and Atmospheric Administration

RIN 0648-XD905

Western Pacific Fishery Management Council; Public Meetings

AGENCY: National Marine Fisheries Service (NMFS), National Oceanic and Atmospheric Administration (NOAA), Commerce.

ACTION: Notice of public meetings.

SUMMARY: The Western Pacific Fishery Management Council (Council) will hold a meeting of its Pelagics Plan Team (PPT) and a joint meeting of the Hawaii Members of the PPT, Advisory Panel (AP), Non-Commercial Fisheries Advisory Committee (NCFAC) and Fishing Industry Advisory Panel (FIAP), in Honolulu, HI, to discuss fishery issues and develop recommendations for future management.

DATES: The meeting of the PPT will be held May 12-13 2015, from 8:30 a.m. to 5 p.m. The joint meeting of the Hawaii Members of the PPT, AP, NCFAC and FIAP will be held on May 14, 2015 from 9 a.m. to 5 p.m.

ADDRESSES: The meetings will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION:

Schedule and Agenda for the PPT Meeting

Wednesday, May 12, 2015, 8:30 a.m.

1. Introduction

2. Annual Report Review

A. Review 2014 Annual Report Modules and Recommendations

i. Commonwealth of the Northern Mariana Islands

ii. American Samoa

iii. Guam

iv. Hawaii

v. International

B. 2014 Annual Report Region Wide Recommendations

Thursday, May 13, 2015, 8:30 a.m.

3. Skipjack Range Contraction

4. Update on Council Actions

5. Purse Seine and Longline Meetings

6. Stock Status Determination Criteria

7. Other Business

8. Public Comment

9. Pelagic Plan Team Recommendations

Schedule and Agenda for the Joint Meeting of the Hawaii Members of the PPT, AP, NCFAC and FIAP

Thursday, May 14, 2015, 9 a.m.

1. Introduction and Welcome

2. Approval of Agenda

3. Minimum Size for Hawaii Yellowfin Tuna

A. Yield per Recruit

B. Socio-economic Studies

C. Discussion

4. Cross Seamount Fishery

A. Contemporary Synopsis of the Cross Seamount Area Fishery

B. Discussion

5. Marine Mammal Depredation

A. Marine Mammal Depredation Reports in the Hawaii Commercial Catch Reports

B. Discussion

6. Other Updates

A. Update on the Hawaii Electronic Logbook Report Project

B. Hawaii Green Turtle Delisting Petition Response and Proposed Rule

C. Humpback Whale Delisting Petition Response

D. Hawaiian Islands Humpback Whale National Marine Sanctuary Draft Management Plan

E. Discussion

7. Other Issues

8. Public Comment

9. Discussion and Recommendations

The order in which the agenda items are addressed may change. The meetings will run as late as necessary to complete scheduled business.

Although non-emergency issues not contained in this agenda may come before these groups for discussion, those issues may not be the subject of formal action during these meetings. Action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 21, 2015.
Tracey L. Thompson,
Acting Deputy Director, Office of Sustainable Fisheries, National Marine Fisheries Service.

[FR Doc. 2015-09586 Filed 4-23-15; 8:45 am]

BILLING CODE 3510-22-P